DEPARTMENT OF THE INTERIOR

National Park Service

[NPS-WASO-PVE-LWCF-22043, PSSSLAD0016001 (177)]

Information Collection Request Sent to the Office of Management and Budget (OMB) for Approval; Land and Water Conservation Fund State Assistance Program

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on October 31, 2016. We may not conduct or sponsor and a person is not required to respond to a collection of information unless it displays a currently valid OMB Control Number. However, under OMB regulations, we may continue to conduct or sponsor this information collection while it is pending at OMB.

DATES: You must submit comments on or before November 21, 2016.

ADDRESSES: Send your comments and suggestions on this information collection to the Desk Officer for the Department of the Interior at OMB-OIRA at (202) 395-5806 (fax) or OIRA_Submission@omb.eop.gov (email). Please provide a copy of your comments to the Information Collection Clearance Officer, National Park Service, 12201 Sunrise Valley Drive, Mail Stop 242, Reston, VA 20192 (mail); or madonna_baucum@nps.gov (email). Please reference OMB Control Number 1024-0031 in the subject line of your comments. You may review the ICR online at http://www.reginfo.gov. Follow the instructions to review Department of the Interior collections under review by OMB.

FOR FURTHER INFORMATION CONTACT: To request additional information about this IC, contact Elisabeth Fondriest, Recreation Grants Chief, State and Local Assistance Programs Division at 202-354-6916; or 1849 C Street NW. (2225), Washington, DC 20240 (mail); or elisabeth_fondriest@nps.gov (email).

SUPPLEMENTARY INFORMATION:

I. Abstract

The Land and Water Conservation Fund Act of 1965 (LWCF Act) (54 U.S.C. 200305) was enacted to help preserve, develop, and ensure access for the public to outdoor recreation opportunities. The LWCF Act provides funds for and authorizes Federal assistance to the States for planning, acquisition, and development of needed land and water areas and facilities. In accordance with the LWCF Act, the National Park Service (we, NPS) administers the LWCF State Assistance Program, which provides matching grants to States and through the States to local units of government. As used in this information collection request, the term “States” includes the 50 States; the Commonwealths of Puerto Rico and the Northern Mariana Islands; the District of Columbia; and the Territories of Guam, the U.S. Virgin Islands, and American Samoa.

In accordance with the LWCF Act, we administer the LWCF State Assistance Program, which provides matching grants to States, and through the States to local units of government. LWCF grants are provided to States on a matching basis for up to 50 percent of the total project-related allowable costs. Grants to eligible insular areas may be for 100 percent assistance. The LWCF State Assistance Program gives maximum flexibility and responsibility to the States. States establish their own priorities and criteria and award their grant money through a competitive selection process based on a Statewide recreation plan. Payments for all projects are made to the State agency that is authorized to accept and administer funds paid for approved projects. Local units of government participate in the program as subgrantees of the State with the State retaining primary grant compliance responsibility.

The following information is collected to administer the LWCF State Assistance Program:

Application. States may seek financial assistance for acquisition, development, or planning projects to be conducted under the LWCF Act. To receive a grant, States must submit an application to NPS for review and approval. We use the information provided in applications to determine eligibility under the authorizing legislation and to select those projects that will provide the highest return on the Federal investment. Project proposals for LWCF grants comprise the following:

• NPS Form 10-902, “Project Agreement”. This form documents the agreement between the NPS and the State for accomplishing the project. It binds the Federal Government and the State to certain obligations through its acceptance of Federal assistance, including the rules and regulations applicable to the conduct of a project under the Act and any special terms and conditions to the project established by the NPS and agreed to by the State. It obligates the United States to provide grants up to a designated amount for eligible costs; sets forth methods of costing, accounting, incurrence of costs, and similar matters. The form also establishes the project performance period and briefly describes the scope of the project.

• NPS Form 10-903, “Description and Notification Form” (DNF). The State must submit a DNF for each park or other recreation area that will be assisted with grant funds. This form provides data about the assisted project site(s), such as location, acreages and details about improvements, as understood at the beginning of each grant project.

• NPS Form 10-904, “Proposal Description and Environmental Screening Form” (PD/ESF). The PD assists the applicant in developing a narrative that provides administrative and descriptive information to help the Federal decision-maker understand the nature of the proposed project. The ESF indicates the resources that could be impacted by the project, enabling States and/or local project sponsors to more accurately follow an appropriate pathway for compliance with the National Environmental Policy Act (NEPA). The analysis serves as part of the Federal administrative record required by NEPA and its implementing regulations.

• Pre-award Onsite Inspection Report. The State must physically inspect proposed project sites prior to the award of grant funds and report on the findings. The inspection must be conducted in accord with the onsite inspection agreement between the State and NPS. See additional information under Reports, below.

• Maps and other supporting documentation. Applicants must develop and submit two maps: One depicting the general location of the park as well as the entrance area; the other delineating the specific boundary of the outdoor recreation area that will be protected for outdoor recreation purposes and subject to the conversion provisions at 54 U.S.C. 200305(f). Applicants should submit other documents that have a significant bearing on the project.

Grant Amendment. After initial award but during the award performance period, a State or project sponsor may seek to modify the agreed-upon terms, such as the award end date, the scope of work, or the budget. NPS must review and approve such changes. States must submit an amendment request on behalf of themselves or the local sponsor, which depending on the nature of the change, could comprise the following elements: NPS Form 10-902A, “Amendment to Project Agreement:, revised Standard Forms, a letter from the State Liaison Officer (SLO) describing the proposed changes and the impact to the project, the PD/ESF, a revised boundary map, and a revised DNF.

• NPS Form 10-902A, “Amendment to Project Agreement”. An amendment form is required to alter the signed Project Agreement. When the amendment is signed by the NPS, it becomes part of the agreement and supersedes it in the specified matters.

• NPS Form 10-903, “Description and Notification Form”. A revised DNF may be required for changes in scope that significantly alter the planned facility development or the acreage of the site or area to be protected under 6(f).

Conversion of Use. In accordance with 54 U.S.C. 200305(f) and implementing regulations found at 36 CFR 59, no lands acquired or developed with LWCF funds can be converted to other than public outdoor recreation uses without the approval of the Secretary of the Interior. States must submit a formal request to the appropriate NPS Regional Office with documentation to substantiate that: (a) All alternatives to the conversion have been evaluated and then rejected on a sound basis; (b) required replacement land being offered as a substitute is of reasonably equivalent location and recreational usefulness as the assisted site proposed for conversion; (c) the property proposed for substitution meets the eligibility requirements for LWCF assistance; and (d) replacement property is of at least equal fair market value as established by an appraisal developed in accordance with Federal appraisal standards. Required documentation is similar to that submitted for grant amendment requests (Forms 10-902A, Amendment to Project Agreement; 10-903, DNF; and/or 10-904, PD/ESF). Additional documents include maps showing the existing protected recreation area and delineating the area to be converted and of the proposed replacement property.

Statewide Comprehensive Outdoor Recreation Plan (SCORP). The LWCF Act requires that to be eligible for LWCF financial assistance, each State must prepare and submit a SCORP to NPS for approval. The NPS requires a new or updated SCORP at least once every 5 years. The SCORP must include:

• The name of the State agency that will have the authority to represent and act for the State.

• An evaluation of the demand for and supply of outdoor recreation resources and facilities in the State.

• A program for the implementation of the plan.

• Certification by the Governor that ample opportunity for public participation has taken place in plan development.

Open Project Selection Process (OPSP). Each State must develop an OPSP that provides objective criteria and standards for grant selection that are explicitly based on each State's priority needs for the acquisition and development of outdoor recreation resources as identified in the SCORP. The OPSP is the connection between the SCORP and the use of LWCF grants to assist State efforts in meeting high priority outdoor recreation resource needs. To ensure continuing close ties between the SCORP and the OPSP, States must review project selection criteria each time that a new or amended SCORP is approved by the NPS. States must submit to the NPS a revised set of OPSP criteria that conform to any changes in SCORP priorities or submit an appropriate certification that no such revisions are necessary.

Proposal for a Public Facility. Except for certain kinds of supporting facilities (e.g., restrooms, visitor information centers), project sponsors must seek NPS approval when constructing an indoor structure on a property that has received LWCF assistance. In most cases, development of an indoor structure would constitute a conversion, but, in certain cases NPS may approve them where it can be shown that they will enhance the outdoor recreation uses of a park and there will be a net gain in benefits to the outdoor recreating public using that park. The request comprises the PD/ESF, which is used to describe the nature of the facility, how it will support and enhance the outdoor recreation use of the site, and ownership and management; as well as a copy of a revised boundary map indicating the location of the proposed facility.

Request for Temporary Non-Conforming Use. Project sponsors must seek NPS approval for the temporary (up to 6 months) use of an LWCF-assisted site for purposes that do not conform to the public outdoor recreation requirements. The State's proposal to NPS must include: (a) Form 10-904, PD/ESF (used to describe the proposed temporary use); (b) SLO recommendations; and (c) an acknowledgement by the SLO that a full conversion will result if the temporary use has not ceased after 6 months.

Request for Significant Change of Use. Project sponsors must seek NPS approval to change the use of an assisted site from one eligible use to another when the proposed use significantly contravenes the plans or intent for the area as they were outlined in the original LWCF application for Federal assistance; e.g., changing a site's use from passive to active recreation. NPS Form 10-904, PD/ESF is used for this request.

Extension of the 3-year Limit for Delayed Outdoor Recreation Development. Project sponsors must seek NPS approval to continue a non-recreation use beyond the 3-year limit for acquisition projects that were previously approved with delayed outdoor recreation development. The State must submit a written request and justification for such an extension to NPS before the end of the initial 3-year period. This request must include: (a) a full description of the property's current public outdoor recreation resources and the public's current ability to use the property; and (b) an update of the project sponsor's plans and schedule for developing outdoor recreation facilities on the property.

Reports. We use this information provided in reports to ensure that the grantee is accomplishing the work on schedule and to identify any problems that the grantee may be experiencing in accomplishing that work.

• Onsite Inspection Reports. States must administer a regular and continuing program of onsite inspections of projects. Onsite inspection reports are prepared for all inspections conducted and are included in the official project files maintained by the State. Progress onsite inspection reports occur during the grant project period and are generally combined with the annual performance report or when grant payments are made. Final onsite inspection reports must be submitted to the NPS within 90 days after the date of completing a project and prior to final reimbursement and administrative closeout. Post-completion onsite inspection reports must be completed within 5 years after the final project reimbursement and every 5 years thereafter. If there are problems, the report should include a description of the discrepancy and the corrective action to be taken. Only reports indicating problems are forwarded to the NPS for review and necessary action; all other reports are maintained in State files.

• Financial and Program Performance Reports. In accordance with 2 CFR 200 (Uniform Administrative Requirements, Cost Principles, and Audit Requirements for Federal Awards), grantees must monitor grant and subgrant supported activities to ensure compliance with applicable Federal requirements and that performance goals are being achieved. States must submit reports to NPS at least annually that include performance and financial information.

Recordkeeping. To comply with the grant requirements of 2 CFR 200, States must maintain financial records, supporting documents, statistical records, and all other records pertinent to a grant program for a period of 3 years after final payment on a project. The records must be retained beyond the 3-year period if audit findings have not been resolved. However, to comply with the LWCF Act perpetuity requirements, States must maintain sufficient records to allow them to keep track of parks and other recreation areas that have been assisted.

Request for Reimbursement/Record of Electronic Payment. States use the Automated Standard Application for Payments (ASAP) system for drawing funds on approved grants. For planning grants, States must submit to NPS a progress report and request for reimbursement before they may request payments. Acquisition and development projects do not require prior approval, but upon completion of an electronic payment on a given date the State must concurrently (within 24 hours) submit a completed NPS Form 10-905, “Record of Electronic Payment” to the LWCF Program offices in Washington, DC and applicable NPS Region.

Proposal to Shelter Facilities. Project sponsors must seek NPS approval to construct new or partially or fully enclose an existing outdoor recreation facility, such as a pool or ice rink, to shelter them from cold climatic conditions and thereby increase the recreational opportunities. This approval is required whether seeking to use LWCF grant funds for this purpose or not. NPS Form 10-904, PD/ESF is used for this request.

II. DATA

OMB Control Number: 1024-0031.

Title: Land and Water Conservation Fund State Assistance Program, 54 U.S.C. 200305.

Service Form Numbers: NPS Forms 10-902, 10-902A, 10-903, 10-904, and 10-905.

Type of Request: Revision of a currently approved collection.

Description of Respondents: States; the Commonwealths of Puerto Rico and the Northern Mariana Islands; the District of Columbia; and the territories of Guam, U.S. Virgin Islands, and American Samoa.

Number of Respondents: 56.

Respondent's Obligation: Required to obtain or retain a benefit.

Frequency of Collection: On occasion.

Estimated Annual Nonhour Cost Burden: None.

Activity | Number of annual respondents | Number of responses per respondent | Total annual responses | Completion time per response (hours) | Total annual burden hours
Application | 60 | 5 | 300 | 12 | 3,600
Grant Amendment (not including Conversion of Use) | 50 | 3.6 | 180 | 5 | 900
Conversion of Use | 50 | 1 | 50 | 92.5 | 4,625
Statewide Comprehensive Outdoor Recreation Plan | 11 | 1 | 11 | 600 | 6,600
Open Project Selection Process | 11 | 1 | 11 | 30 | 330
Proposal for Public Facility | 8 | 1 | 8 | 16 | 128
Request for Temporary Non-Conforming Use | 5 | 1 | 5 | 16 | 80
Request for Significant Change of Use | 2 | 1 | 2 | 16 | 32
Extension of 3-Year Limit for Delayed Outdoor Recreation Development | 5 | 1 | 5 | 16 | 80
Onsite Inspection Reports | 56 | 78 | 4,368 | 5.75 | 25,116
Financial and Program Performance Reports (per grant) | 56 | 11.8 | 661 | 1 | 661
Recordkeeping | 56 | 1 | 56 | 40 | 2,240
Requests for Reimbursement/Record of Electronic Payment | 56 | 6 | 336 | 1 | 336
Proposal to Shelter Facilities | 1 | 1 | 1 | 16 | 16
Totals |  |  | 5,994 |  | 44,744

III. COMMENTS

On March 11, 2016, we published in the Federal Register (81 FR 12949) a Notice of our intent to request that OMB renew approval for this information collection. In that Notice, we solicited comments for 60 days, ending on May 10, 2016. One comment was received in response the Notice; it objected to the use of federal dollars for support of state projects and did not address the information collection.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 18, 2016.
Madonna L. Baucum,
Information Collection Clearance Officer, National Park Service.

[FR Doc. 2016-25495 Filed 10-20-16; 8:45 am]

BILLING CODE 4310-EH-P